SMALL BUSINESS ADMINISTRATION

[Disaster Declaration #17842 and #17843; CALIFORNIA Disaster Number CA-00376]

Presidential Declaration of a Major Disaster for the State of California

AGENCY: U.S. Small Business Administration.

ACTION: Notice.

SUMMARY: This is a Notice of the Presidential declaration of a major disaster for the State of CALIFORNIA (FEMA-4699-DR), dated 04/03/2023.

Incident: Severe Winter Storms, Straight-line Winds, Flooding, Landslides, and Mudslides.

Incident Period: 02/21/2023 and continuing.

DATES: Issued on 04/03/2023.

Physical Loan Application Deadline Date: 06/02/2023.

Economic Injury (EIDL) Loan Application Deadline Date: 01/03/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 04/03/2023, applications for disaster loans may be filed at the address listed above or other locally announced locations.

The following areas have been determined to be adversely affected by the disaster:

Primary Counties (Physical Damage and Economic Injury Loans): Kern, Mariposa, Monterey, San Benito, Santa Cruz, Tulare, Tuolumne.

Contiguous Counties (Economic Injury Loans Only):

California: Alpine, Calaveras, Fresno, Inyo, Kings, Los Angeles, Madera, Merced, Mono, San Bernardino, San Luis Obispo, San Mateo, Santa Barbara, Santa Clara, Stanislaus, Ventura.

The Interest Rates are:

| Percent
For Physical Damage:
Homeowners with Credit Available Elsewhere | 4.750
Homeowners without Credit Available Elsewhere | 2.375
Businesses with Credit Available Elsewhere | 8.000
Businesses without Credit Available Elsewhere | 4.000
Non-Profit Organizations with Credit Available Elsewhere | 2.375
Non-Profit Organizations without Credit Available Elsewhere | 2.375
For Economic Injury:
Businesses & Small Agricultural Cooperatives without Credit Available Elsewhere | 4.000
Non-Profit Organizations without Credit Available Elsewhere | 2.375

The number assigned to this disaster for physical damage is 17842 B and for economic injury is 17843 0.

(Catalog of Federal Domestic Assistance Number 59008)

Francisco Sánchez, Jr.,
Associate Administrator, Office of Disaster Recovery & Resilience.

[FR Doc. 2023-07541 Filed 4-10-23; 8:45 am]

BILLING CODE 8026-09-P